DEPARTMENT OF EDUCATION

Notice of Proposed Information Collection Requests

AGENCY: Department of Education.

ACTION: Notice of Proposed Information Collection Requests.

SUMMARY: The Acting Director, Information Collection Clearance Division, Regulatory Information Management Services, Office of Management, invites comments on the proposed information collection requests as required by the Paperwork Reduction Act of 1995.

DATES: An emergency review has been requested in accordance with the Act (44 U.S.C. Chapter 3507 (j)), since public harm is reasonably likely to result if normal clearance procedures are followed. Approval by the Office of Management and Budget (OMB) has been requested by June 1, 2010. A regular clearance process is also beginning. Interested persons are invited to submit comments on or before July 19, 2010.

ADDRESSES: Written comments should be addressed to the Office of Information and Regulatory Affairs, Attention: Education Desk Officer, Office of Management and Budget, 725 17th Street, NW., Room 10222, New Executive Office Building, Washington, DC 20503, be faxed to (202) 395-5806 or e-mailed to oira_submission@omb.eop.gov with a cc: to ICDocketMgr@ed.gov.

SUPPLEMENTARY INFORMATION: Section 3506 of the Paperwork Reduction Act of 1995 (44 U.S.C. chapter 35) requires that the Director of OMB provide interested Federal agencies and the public an early opportunity to comment on information collection requests. The Office of Management and Budget (OMB) may amend or waive the requirement for public consultation to the extent that public participation in the approval process would defeat the purpose of the information collection, violate State or Federal law, or substantially interfere with any agency's ability to perform its statutory obligations. The Acting Director, Information Collection Clearance Division, Regulatory Information Management Services, Office of Management, publishes this notice containing proposed information collection requests at the beginning of the Departmental review of the information collection. Each proposed information collection, grouped by office, contains the following: (1) Type of review requested, e.g., new, revision, extension, existing or reinstatement; (2) Title; (3) Summary of the collection; (4) Description of the need for, and proposed use of, the information; (5) Respondents and frequency of collection; and (6) Reporting and/or Recordkeeping burden. ED invites public comment.

The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on respondents, including through the use of information technology.

Dated: May 14, 2010.
Kate Mullan,
Acting Director, Information Collection Clearance Division, Regulatory Information Management Services, Office of Management.

Federal Student Aid

Type of Review: Emergency.

Title: Civil Legal Assistance Attorney Student Loan Repayment Program.

Abstract: Under this program, civil legal assistance attorneys who meet certain qualifications may have a portion of certain Federal student loans repaid by the Department based on qualifying full-time employment for at least three years. After acceptance into the program using the Application to Participate and Service Agreement, the borrower will be required to submit for the following three years the Annual Certification of Employment to continue to receive this benefit. If the borrower doesn't continue to meet the employment requirements, they will have to repay any funding received through this program.

Additional Information: The Department is requesting an emergency approval of the Civil Legal Assistance Attorney Student Loan Repayment Program Application to Participate and Service Agreement and Annual Certification of Employment forms by June 1, 2010. This is needed to ensure there is sufficient time to implement the Agreement and for the Department to review the applications submitted by borrowers and make commitments of funds by the close of the 2010 fiscal year. Under the regular clearance process, the Department would not have an approved Agreement by the end of the fiscal year end date for which appropriations have been made. The Department will submit both of the forms for the regular clearance process after receiving emergency approval.

The Application to Participate and Service Agreement will serve as the means for an eligible borrower to apply to participate in the Civil Legal Assistance Attorney Loan Repayment Program and to agree to the terms and conditions of the three-year service period. The Annual Certification of Employment will serve as the means for a borrower who has completed a year of service as a full-time civil legal assistance attorney to request loan repayment and to provide the Department with verification of the qualifying employment. The Notice announcing the program will soon be finalized and will be published after the forms have been approved.

As the $5,000,000 in appropriated funds is for fiscal year 2010 only, the funds must be committed by the Department to eligible borrowers by the close of the fiscal year on September 30, 2010. To allow sufficient time for the Department to review applications submitted by borrowers and make commitments of funds by the close of the fiscal year, the Department intends to require borrowers to submit applications to the Department no later than August 16, 2010.

The Department requests emergency clearance of the Application to Participate and Service Agreement and Annual Certification of Employment forms by June 1, 2010.

Frequency: Annually.

Affected Public: Individuals or household; Not-for-profit institutions.

Reporting and Recordkeeping Hour Burden:

Responses: 833.

Burden Hours: 142.

Requests for copies of the proposed information collection request may be accessed from http://edicsweb.ed.gov, by selecting the “Browse Pending Collections” link and by clicking on link number 4309. When you access the information collection, click on “Download Attachments ” to view. Written requests for information should be addressed to U.S. Department of Education, 400 Maryland Avenue, SW., LBJ, Washington, DC 20202-4537. Requests may also be electronically mailed to the Internet address ICDocketMgr@ed.gov or faxed to 202-401-0920. Please specify the complete title of the information collection when making your request.

Comments regarding burden and/or the collection activity requirements should be electronically mailed to ICDocketMgr@ed.gov. Individuals who use a telecommunications device for the deaf (TDD) may call the Federal Information Relay Service (FIRS) at 1-800-877-8339.

[FR Doc. 2010-12060 Filed 5-18-10; 8:45 am]

BILLING CODE 4000-01-P